FEDERAL COMMUNICATIONS COMMISSION

47 CFR Part 73

[DA 04-2908, MB Docket No. 03-144, RM-10733, RM-10788, RM-10789]

Radio Broadcasting Services; Breckenridge, Crawford, Eagle, Fort Morgan, Greenwood Village, and Gunnison, CO; Laramie, WY; Loveland, Olathe and Strasburg, CO

AGENCY: Federal Communications Commission.

ACTION: Final rule.

SUMMARY: This document denies a petition filed by Dana J. Puopolo requesting the allotment of Channel 299C3 at Gunnison, Colorado. See 68 FR 42663, published July 18, 2003. This document also denies a petition jointly filed by Lenora Alexander, former licensee of FM Station KAGM, KAGM Joint Venture, proposed licensee of Station KAGM, and On-Air Family, LLC, licensee of Station KBRU-FM proposing the reallottment of Channel 272A from Strasburg to Greenwood Village, Colorado, as its first local service, among other changes in Fort Morgan, Breckenridge, Eagle, and Loveland, Colorado and Laramie, Wyoming. This document also grants a counterproposal filed by Mayflower-Crawford Broadcasting requesting the allotment of Channel 272C2 at Crawford, Colorado, as its first local service. See Supplementary Information.

DATES: Effective November 5, 2004.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-144 adopted September 15, 2004, and released September 20, 2004. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of the Report and Order in this proceeding in a report to be sent to Congress and the General Accounting Office pursuant to the Congressional Review Act, see 5 U.S.C. 801(a)(1)(A).

To accommodate the Crawford allotment, this document also substituted Channel 299A for Channel 272A at Gunnison, Colorado and modified the license of Station KVLE(FM) accordingly; and changed the reference coordinates for vacant Channel 270C2 at Olathe, Colorado. Channel 272C2 can be allotted to Crawford consistent with the Commission's minimum distance separation requirements provided there is a site restriction of 20.9 kilometers (13 miles) southeast of the community. The reference coordinates for Channel 272C2 at Crawford are 38-32-05 North Latitude and 107-30-27 West Longitude. Station KVLE-FM license at Gunnison can be modified on Channel 299A at its current authorized transmitter site. The coordinates for Channel 299A at Gunnison are 38-33-53 NL and 106-55-38 WL. The new reference coordinates for vacant Channel 270C2 at Olathe are 38-26-25 NL and 108-09-47 WL. This site requires a site restriction 15.8 kilometers (9.8 miles) west of the community.

List of Subjects in 47 CFR Part 73

Radio, Radio broadcasting.

Accordingly, 47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Crawford, Channel 272C2, and by removing Channel 272A and adding Channel 299A at Gunnison.

Federal Communications Commission.
John A. Karousos,
Assistant Chief, Audio Division, Media Bureau.

[FR Doc. 04-22026 Filed 9-30-04; 8:45 am]

BILLING CODE 6712-01-P